DEPARTMENT OF STATE

[Public Notice 4514]

Bureau of Democracy, Human Rights and Labor Request for Grant Proposals: Human Rights and Democratization Cross-Regional Initiatives in the Non-Arab Muslim World

SUMMARY: The Office for the Promotion of Human Rights and Democracy of the Bureau of Democracy, Human Rights and Labor (DRL/PHD) announces an open competition for assistance awards. Organizations may submit grant proposals that focus on promotion of human rights, political participation and freedom of opportunity in the non-Arab Muslim World.

Awards are contingent upon the availability of Fiscal Year 2003 funds. Up to $4,500,000 may be available under the Economic Support Fund for projects that address cross-regional Bureau objectives in the non-Arab Muslim World. Funds will be targeted toward Muslim populations outside the Middle East. Regions that fall into this category may include Africa, East Asia and the Pacific, South Asia, and Eurasia. Projects must be targeted at multiple countries, either within a single region or across regions. Projects may also include countries with sizeable Muslim minority populations, such as Russia, India and Thailand, among others. The Bureau anticipates awarding between 5-15 grants in amounts of $250,000—$1,000,000.

Background: DRL/PHD supports innovative, cutting-edge programs which uphold democratic principles, support and strengthen democratic institutions, promote human rights, and build civil society in countries and regions of the world that are geo-strategically important to the U.S.

DRL/PHD funds projects that have an immediate impact but that also have potential for continued funding beyond DRL/PHD resources. Projects must not duplicate or simply add to efforts by other entities.

SUPPLEMENTARY INFORMATION: The Bureau of Democracy Human Rights and Labor has identified the following issues as priorities. Projects that address these issues may receive a higher priority, but DRL is open to innovative programming ideas on other issues that meet our general criteria:

1. Empowerment of Muslim women, including projects that promote capacity building and/or networks of women or women's organizations, especially as they relate to human-rights;

2. Addressing the problem of disenfranchised youth and the need to reach out to this group to prevent growth of extremism;

3. Political reform programs that would entail support for conducting free and fair elections, issues of good governance and corruption;

4. Independent media and access to a diversity of sources of information;

5. Judicial systems, especially in the context of Shari'a;

6. Promotion of the compatibility of democracy with Islam; and

7. Civil society and increasing political participation.

Project Criteria

• Project implementation should begin no earlier than March 2004.

• Projects should not exceed two years in duration. Shorter projects with more immediate outcomes may receive preference.

• Project activity should take place abroad. U.S.-based or exchange projects are strongly discouraged.

• Projects that have a strong academic or research focus will not be highly considered. DRL will not fund health, technology, environmental, or scientific projects unless they have an explicit democracy, human rights, or rule of law component.

• Projects should include a follow-on plan that extends beyond the grant period ensuring that Bureau-supported programs are not isolated events.

In order to avoid the duplication of activities and programs, proposals should also indicate knowledge of similar projects being conducted in the regions and how the submitted proposal will complement them.

Applicant/Organization Criteria

Organizations applying for a grant should meet the following criteria:

• Be a U.S. non-profit organization meeting the provisions described in Internal Revenue Code section 26 USC 501(c)(3). Applicant must submit proof of its non-profit status in the application at the time of submission.

• Have demonstrated experience administering successful projects in the regions in which it is proposing to administer a project.

• Have existing, or the capacity to develop, active partnerships with in-country organization(s).

• Organizations that have not previously received and successfully administered U.S. government grant funds will be subject to additional scrutiny before an award can be granted.

Note: Organizations are welcome to submit more than one proposal, but should know that DRL wishes to reach out to as many different organizations as possible with its limited funds.

Budget Guidelines

Please refer to the Proposal Submission Instructions (PSI) for complete budget guidelines and formatting instructions.

Deadline for Proposals

All proposals must be received at the Bureau of Democracy, Human Rights and Labor by 5 p.m. eastern standard time (e.s.t.) on Thursday, November 13, 2003. Please refer to the PSI for specific delivery instructions.

Review Process

The Bureau will acknowledge receipt of all proposals and will review them for eligibility. Proposals will be deemed ineligible if they do not fully adhere to the guidelines stated herein and in the PSI. Eligible proposals will be subject to compliance with Federal and Bureau regulations and guidelines and forwarded to Bureau grant panels for advisory review. Proposals may also be reviewed by the Office of the Legal Adviser or by other Department elements.

Review Criteria

Eligible applications will be competitively reviewed according to the criteria stated below. Further explanation of these criteria is included in the PSI. These criteria are not rank-ordered and all carry equal weight in the proposal evaluation: Quality of the program idea; program planning and ability to achieve program objectives; multiplier effect/impact; institution's record/ability/capacity; cost-effectiveness.

FOR FURTHER INFORMATION CONTACT: The Office for the Promotion of Human Rights and Democracy of the Bureau of Democracy, Human Rights and Labor (DRL/PHD). Please specify Sondra Govatski 202-647-9734 on all inquiries and correspondence.

Please read the complete Federal Register announcement before sending inquiries or submitting proposals. Once the RFP deadline has passed, Bureau staff may not discuss this competition with applicants until the proposal review process has been completed.

To Download a Solicitation Package Via Internet

The Solicitation Package consists of this RFP plus the Proposal Submission Instructions (PSI). The PSI contains detailed award criteria, specific budget instructions, and standard guidelines for proposal preparation. The PSI may be downloaded from the HRDF section on the Bureau's Web site at http://www.state.gov/g/drl/.

Notice

The terms and conditions published in this RFP are binding and may not be modified by any Bureau representative. Explanatory information provided by the Bureau that contradicts published language will not be binding.

Issuance of the RFP does not constitute an award commitment on the part of the Government. The Bureau reserves the right to reduce, revise, or increase proposal budgets in accordance with the needs of the program and the availability of funds. Awards made will be subject to periodic reporting and evaluation requirements. Final technical authority for assistance awards resides with the Office of Acquisition Management's Grants Officer.

Notification

Final awards cannot be made until funds have been appropriated by Congress, allocated and committed through internal Bureau procedures.

Dated: October 9, 2003.
Lorne W. Craner,
Assistant Secretary for Democracy, Human Rights and Labor, Department of State.

[FR Doc. 03-26185 Filed 10-15-03; 8:45 am]

BILLING CODE 4710-18-P